FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 27, 2015.

A. Federal Reserve Bank of Chicago (Colette A. Fried, Assistant Vice President) 230 South LaSalle Street, Chicago, Illinois 60690-1414:

1. AB Anderson Family Trust, Oneida, Illinois, and John W. Anderson, Galesburg, Illinois, individually and as trustee of the AB Anderson Family Trust, together as a group acting in concert with Ann Mustard, Dulles, Virginia, and B. Susan Hill, Galesburg, Illinois; to retain voting shares of Anderson Bancorp, Inc., and indirectly retain voting shares of Anderson State Bank, both in Oneida, Illinois.

Board of Governors of the Federal Reserve System, November 6, 2015.
Michael J. Lewandowski,
Associate Secretary of the Board.

[FR Doc. 2015-28720 Filed 11-10-15; 8:45 am]

BILLING CODE 6210-01-P